DEPARTMENT OF STATE

[Public Notice: 9566]

Notice of Public Meeting

ACTION: The Department of State will conduct an open meeting at 10:00 a.m. on Wednesday, June 1st, 2016, in Room 2N23-02, United States Coast Guard Headquarters, 2703 Martin Luther King, Jr. Ave. SE., Washington, DC 20593-7213. The primary purpose of the meeting is to prepare for the 103rd Session of the International Maritime Organization's (IMO) Legal Committee to be held at the IMO Headquarters, United Kingdom, June 8-10, 2016.

The agenda items to be considered include:

—HNS Protocol, 2010

—Fair treatment of seafarers in the event of a maritime accident

—Provision of financial security in case of abandoned seafarers

—Technical cooperation activities related to maritime legislation

—Review of the status of conventions and other treaty instruments emanating from the Legal Committee

—Any other business, which may include liability and compensation for transboundary oil pollution arising from offshore exploration and exploitation.

Members of the public may attend this meeting up to the seating capacity of the room. To facilitate the building security process, and to request reasonable accommodation, those who plan to attend should contact the meeting coordinator, Ms. Bronwyn Douglass, by email at Bronwyn.douglass@uscg.mil, by phone at (202) 372-3793, or in writing at 2703 Martin Luther King Jr. Ave. SE., Stop 7213, Washington DC 20593-7509 not later than May 27, 2016. Requests made after May 27, 2016 might not be able to be accommodated, and same day requests will not be accommodated due to the building's security process. Please note that due to security considerations, two valid, government issued photo identifications must be presented to gain entrance to Coast Guard Headquarters. It is recommended that attendees arrive to the Headquarters building no later than 30 minutes ahead of the scheduled meeting for the security screening process. The Headquarters building is accessible by taxi and public transportation. Parking in the vicinity of the building is extremely limited and not guaranteed.

In the case of inclement weather where the Federal Government is closed or delayed, a public meeting may be conducted virtually by calling (202) 475-4000 or 1-855-475-2447, Participant code: 887 809 72. The meeting coordinator will confirm whether the virtual public meeting will be utilized. Members of the public can find out whether the Federal Government is delayed or closed by visiting www.opm.gov/status/. Additional information regarding this and other IMO public meetings may be found at: www.uscg.mil/imo.

Dated: May 10, 2016.
Jonathan W. Burby,
Coast Guard Liaison Officer, Office of Ocean and Polar Affairs, Department of State.

[FR Doc. 2016-11727 Filed 5-17-16; 8:45 am]

BILLING CODE 4710-09-P